NUCLEAR REGULATORY COMMISSION

[NRC-2019-0227]

Biweekly Notice; Applications and Amendments to Facility Operating Licenses and Combined Licenses Involving No Significant Hazards Considerations

AGENCY: Nuclear Regulatory Commission.

ACTION: Biweekly notice.

SUMMARY: Pursuant to the Atomic Energy Act of 1954, as amended (the Act), the U.S. Nuclear Regulatory Commission (NRC) is publishing this regular biweekly notice. The Act requires the Commission to publish notice of any amendments issued, or proposed to be issued, and grants the Commission the authority to issue and make immediately effective any amendment to an operating license or combined license, as applicable, upon a determination by the Commission that such amendment involves no significant hazards consideration, notwithstanding the pendency before the Commission of a request for a hearing from any person.

This biweekly notice includes all notices of amendments issued, or proposed to be issued, from October 22, 2019, to November 4, 2019. The last biweekly notice was published on November 5, 2019.

DATES: Comments must be filed by December 19, 2019. A request for a hearing must be filed by January 21, 2020.

ADDRESSES: You may submit comments by any of the following methods:

• Federal Rulemaking Website: Go to https://www.regulations.gov and search for Docket ID NRC-2019-0227. Address questions about NRC docket IDs in Regulations.gov to Jennifer Borges; telephone: 301-287-9127; email: Jennifer.Borges@nrc.gov. For technical questions, contact the individual(s) listed in the FOR FURTHER INFORMATION CONTACT section of this document.

• Mail comments to: Office of Administration, Mail Stop: TWFN-7-A60M, U.S. Nuclear Regulatory Commission, Washington, DC 20555-0001, ATTN: Program Management, Announcements and Editing Staff.

For additional direction on obtaining information and submitting comments, see “Obtaining Information and Submitting Comments” in the SUPPLEMENTARY INFORMATION section of this document.

FOR FURTHER INFORMATION CONTACT: Lynn Ronewicz, Office of Nuclear Reactor Regulation, U.S. Nuclear Regulatory Commission, Washington, DC 20555-0001; telephone: 301-415-1927, email: Lynn.Ronewicz@nrc.gov.

SUPPLEMENTARY INFORMATION:

I. Obtaining Information and Submitting Comments

A. Obtaining Information

Please refer to Docket ID NRC-2019-0227, facility name, unit number(s), plant docket number, application date, and subject when contacting the NRC about the availability of information for this action. You may obtain publicly-available information related to this action by any of the following methods:

• Federal Rulemaking Website: Go to https://www.regulations.gov and search for Docket ID NRC-2019-0227.

• NRC's Agencywide Documents Access and Management System (ADAMS): You may obtain publicly-available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that it is mentioned in this document.

• NRC's PDR: You may examine and purchase copies of public documents at the NRC's PDR, Room O1-F21, One White Flint North, 11555 Rockville Pike, Rockville, Maryland 20852.

B. Submitting Comments

Please include Docket ID NRC-2019-0227, facility name, unit number(s), plant docket number, application date, and subject in your comment submission.

The NRC cautions you not to include identifying or contact information that you do not want to be publicly disclosed in your comment submission. The NRC will post all comment submissions at https://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. Background

Pursuant to Section 189a.(2) of the Atomic Energy Act of 1954, as amended (the Act), the NRC is publishing this regular biweekly notice. The Act requires the Commission to publish notice of any amendments issued, or proposed to be issued, and grants the Commission the authority to issue and make immediately effective any amendment to an operating license or combined license, as applicable, upon a determination by the Commission that such amendment involves no significant hazards consideration, notwithstanding the pendency before the Commission of a request for a hearing from any person.

III. Notice of Consideration of Issuance of Amendments to Facility Operating Licenses and Combined Licenses and Proposed No Significant Hazards Consideration Determination

The Commission has made a proposed determination that the following amendment requests involve no significant hazards consideration. Under the Commission's regulations in § 50.92 of title 10 of the Code of Federal Regulations (10 CFR), this means that operation of the facility in accordance with the proposed amendment would not (1) involve a significant increase in the probability or consequences of an accident previously evaluated; or (2) create the possibility of a new or different kind of accident from any accident previously evaluated; or (3) involve a significant reduction in a margin of safety. The basis for this proposed determination for each amendment request is shown below.

The Commission is seeking public comments on this proposed determination. Any comments received within 30 days after the date of publication of this notice will be considered in making any final determination.

Normally, the Commission will not issue the amendment until the expiration of 60 days after the date of publication of this notice. The Commission may issue the license amendment before expiration of the 60-day period provided that its final determination is that the amendment involves no significant hazards consideration. In addition, the Commission may issue the amendment prior to the expiration of the 30-day comment period if circumstances change during the 30-day comment period such that failure to act in a timely way would result, for example in derating or shutdown of the facility. If the Commission takes action prior to the expiration of either the comment period or the notice period, it will publish in the Federal Register a notice of issuance. If the Commission makes a final no significant hazards consideration determination, any hearing will take place after issuance. The Commission expects that the need to take this action will occur very infrequently.

A. Opportunity To Request a Hearing and Petition for Leave To Intervene

Within 60 days after the date of publication of this notice, any persons (petitioner) whose interest may be affected by this action may file a request for a hearing and petition for leave to intervene (petition) with respect to the action. Petitions shall be filed in accordance with the Commission's “Agency Rules of Practice and Procedure” in 10 CFR part 2. Interested persons should consult a current copy of 10 CFR 2.309. The NRC's regulations are accessible electronically from the NRC Library on the NRC's website at https://www.nrc.gov/reading-rm/doc-collections/cfr/. Alternatively, a copy of the regulations is available at the NRC's Public Document Room, located at One White Flint North, Room O1-F21, 11555 Rockville Pike (first floor), Rockville, Maryland 20852. If a petition is filed, the Commission or a presiding officer will rule on the petition and, if appropriate, a notice of a hearing will be issued.

As required by 10 CFR 2.309(d) the petition should specifically explain the reasons why intervention should be permitted with particular reference to the following general requirements for standing: (1) The name, address, and telephone number of the petitioner; (2) the nature of the petitioner's right to be made a party to the proceeding; (3) the nature and extent of the petitioner's property, financial, or other interest in the proceeding; and (4) the possible effect of any decision or order which may be entered in the proceeding on the petitioner's interest.

In accordance with 10 CFR 2.309(f), the petition must also set forth the specific contentions which the petitioner seeks to have litigated in the proceeding. Each contention must consist of a specific statement of the issue of law or fact to be raised or controverted. In addition, the petitioner must provide a brief explanation of the bases for the contention and a concise statement of the alleged facts or expert opinion which support the contention and on which the petitioner intends to rely in proving the contention at the hearing. The petitioner must also provide references to the specific sources and documents on which the petitioner intends to rely to support its position on the issue. The petition must include sufficient information to show that a genuine dispute exists with the applicant or licensee on a material issue of law or fact. Contentions must be limited to matters within the scope of the proceeding. The contention must be one which, if proven, would entitle the petitioner to relief. A petitioner who fails to satisfy the requirements at 10 CFR 2.309(f) with respect to at least one contention will not be permitted to participate as a party.

Those permitted to intervene become parties to the proceeding, subject to any limitations in the order granting leave to intervene. Parties have the opportunity to participate fully in the conduct of the hearing with respect to resolution of that party's admitted contentions, including the opportunity to present evidence, consistent with the NRC's regulations, policies, and procedures.

Petitions must be filed no later than 60 days from the date of publication of this notice. Petitions and motions for leave to file new or amended contentions that are filed after the deadline will not be entertained absent a determination by the presiding officer that the filing demonstrates good cause by satisfying the three factors in 10 CFR 2.309(c)(1)(i) through (iii). The petition must be filed in accordance with the filing instructions in the “Electronic Submissions (E-Filing)” section of this document.

If a hearing is requested, and the Commission has not made a final determination on the issue of no significant hazards consideration, the Commission will make a final determination on the issue of no significant hazards consideration. The final determination will serve to establish when the hearing is held. If the final determination is that the amendment request involves no significant hazards consideration, the Commission may issue the amendment and make it immediately effective, notwithstanding the request for a hearing. Any hearing would take place after issuance of the amendment. If the final determination is that the amendment request involves a significant hazards consideration, then any hearing held would take place before the issuance of the amendment unless the Commission finds an imminent danger to the health or safety of the public, in which case it will issue an appropriate order or rule under 10 CFR part 2.

A State, local governmental body, Federally-recognized Indian Tribe, or agency thereof, may submit a petition to the Commission to participate as a party under 10 CFR 2.309(h)(1). The petition should state the nature and extent of the petitioner's interest in the proceeding. The petition should be submitted to the Commission no later than 60 days from the date of publication of this notice. The petition must be filed in accordance with the filing instructions in the “Electronic Submissions (E-Filing)” section of this document, and should meet the requirements for petitions set forth in this section, except that under 10 CFR 2.309(h)(2) a State, local governmental body, or Federally-recognized Indian Tribe, or agency thereof does not need to address the standing requirements in 10 CFR 2.309(d) if the facility is located within its boundaries. Alternatively, a State, local governmental body, Federally-recognized Indian Tribe, or agency thereof may participate as a non-party under 10 CFR 2.315(c).

If a hearing is granted, any person who is not a party to the proceeding and is not affiliated with or represented by a party may, at the discretion of the presiding officer, be permitted to make a limited appearance pursuant to the provisions of 10 CFR 2.315(a). A person making a limited appearance may make an oral or written statement of his or her position on the issues but may not otherwise participate in the proceeding. A limited appearance may be made at any session of the hearing or at any prehearing conference, subject to the limits and conditions as may be imposed by the presiding officer. Details regarding the opportunity to make a limited appearance will be provided by the presiding officer if such sessions are scheduled.

B. Electronic Submissions (E-Filing)

All documents filed in NRC adjudicatory proceedings, including a request for hearing and petition for leave to intervene (petition), any motion or other document filed in the proceeding prior to the submission of a request for hearing or petition to intervene, and documents filed by interested governmental entities that request to participate under 10 CFR 2.315(c), must be filed in accordance with the NRC's E-Filing rule (72 FR 49139; August 28, 2007, as amended at 77 FR 46562; August 3, 2012). The E-Filing process requires participants to submit and serve all adjudicatory documents over the internet, or in some cases to mail copies on electronic storage media. Detailed guidance on making electronic submissions may be found in the Guidance for Electronic Submissions to the NRC and on the NRC website at https://www.nrc.gov/site-help/e-submittals.html. Participants may not submit paper copies of their filings unless they seek an exemption in accordance with the procedures described below.

To comply with the procedural requirements of E-Filing, at least 10 days prior to the filing deadline, the participant should contact the Office of the Secretary by email at hearing.docket@nrc.gov, or by telephone at 301-415-1677, to (1) request a digital identification (ID) certificate, which allows the participant (or its counsel or representative) to digitally sign submissions and access the E-Filing system for any proceeding in which it is participating; and (2) advise the Secretary that the participant will be submitting a petition or other adjudicatory document (even in instances in which the participant, or its counsel or representative, already holds an NRC-issued digital ID certificate). Based upon this information, the Secretary will establish an electronic docket for the hearing in this proceeding if the Secretary has not already established an electronic docket.

Information about applying for a digital ID certificate is available on the NRC's public website at https://www.nrc.gov/site-help/e-submittals/getting-started.html. Once a participant has obtained a digital ID certificate and a docket has been created, the participant can then submit adjudicatory documents. Submissions must be in Portable Document Format (PDF). Additional guidance on PDF submissions is available on the NRC's public website at https://www.nrc.gov/site-help/electronic-sub-ref-mat.html. A filing is considered complete at the time the document is submitted through the NRC's E-Filing system. To be timely, an electronic filing must be submitted to the E-Filing system no later than 11:59 p.m. Eastern Time on the due date. Upon receipt of a transmission, the E-Filing system time-stamps the document and sends the submitter an email notice confirming receipt of the document. The E-Filing system also distributes an email notice that provides access to the document to the NRC's Office of the General Counsel and any others who have advised the Office of the Secretary that they wish to participate in the proceeding, so that the filer need not serve the document on those participants separately. Therefore, applicants and other participants (or their counsel or representative) must apply for and receive a digital ID certificate before adjudicatory documents are filed so that they can obtain access to the documents via the E-Filing system.

A person filing electronically using the NRC's adjudicatory E-Filing system may seek assistance by contacting the NRC's Electronic Filing Help Desk through the “Contact Us” link located on the NRC's public website at https://www.nrc.gov/site-help/e-submittals.html, by email to MSHD.Resource@nrc.gov, or by a toll-free call at 1-866-672-7640. The NRC Electronic Filing Help Desk is available between 9 a.m. and 6 p.m., Eastern Time, Monday through Friday, excluding government holidays.

Participants who believe that they have a good cause for not submitting documents electronically must file an exemption request, in accordance with 10 CFR 2.302(g), with their initial paper filing stating why there is good cause for not filing electronically and requesting authorization to continue to submit documents in paper format. Such filings must be submitted by: (1) First class mail addressed to the Office of the Secretary of the Commission, U.S. Nuclear Regulatory Commission, Washington, DC 20555-0001, Attention: Rulemaking and Adjudications Staff; or (2) courier, express mail, or expedited delivery service to the Office of the Secretary, 11555 Rockville Pike, Rockville, Maryland 20852, Attention: Rulemaking and Adjudications Staff. Participants filing adjudicatory documents in this manner are responsible for serving the document on all other participants. Filing is considered complete by first-class mail as of the time of deposit in the mail, or by courier, express mail, or expedited delivery service upon depositing the document with the provider of the service. A presiding officer, having granted an exemption request from using E-Filing, may require a participant or party to use E-Filing if the presiding officer subsequently determines that the reason for granting the exemption from use of E-Filing no longer exists.

Documents submitted in adjudicatory proceedings will appear in the NRC's electronic hearing docket which is available to the public at https://adams.nrc.gov/ehd, unless excluded pursuant to an order of the Commission or the presiding officer. If you do not have an NRC-issued digital ID certificate as described above, click “cancel” when the link requests certificates and you will be automatically directed to the NRC's electronic hearing dockets where you will be able to access any publicly-available documents in a particular hearing docket. Participants are requested not to include personal privacy information, such as social security numbers, home addresses, or personal phone numbers in their filings, unless an NRC regulation or other law requires submission of such information. For example, in some instances, individuals provide home addresses in order to demonstrate proximity to a facility or site. With respect to copyrighted works, except for limited excerpts that serve the purpose of the adjudicatory filings and would constitute a Fair Use application, participants are requested not to include copyrighted materials in their submission.

For further details with respect to these license amendment applications, see the application for amendment which is available for public inspection in ADAMS and at the NRC's PDR. For additional direction on accessing information related to this document, see the “Obtaining Information and Submitting Comments” section of this document.

Arizona Public Service Company, et al., Docket Nos. STN 50-528, STN 50-529, STN 50-530, and STN 72-44, Palo Verde Nuclear Generating Station, Units 1, 2, and 3 (Palo Verde, PVNGS), and Palo Verde Independent Spent Fuel Storage Installation, Maricopa County, Arizona

Date of amendment request: October 18, 2019. A publicly-available version is in ADAMS under Accession No. ML19291F735.

Description of amendment request: The amendments would revise certain Emergency Response Organization (ERO) positions in the Palo Verde Emergency Plan. Specifically, the proposed changes would revise certain ERO positions in accordance with guidance specified in the “Alternative Guidance for Licensee Emergency Response Organizations,” finalized in a letter from the NRC to the Nuclear Energy Institute, dated June 12, 2018 (ADAMS Accession No. ML18022A352).

The proposed changes would also relocate the non-minimum staff ERO personnel from the Palo Verde Emergency Plan to emergency preparedness implementing procedures.

The proposed changes have been reviewed considering the requirements of 10 CFR 50.47, “Emergency Plans,” paragraph (b); 10 CFR 50 Appendix E, “Emergency Planning and Preparedness for Production and Utilization Facilities”; and other applicable emergency preparedness NRC guidance documents. These regulations establish emergency planning standards that require (1) adequate staffing, (2) satisfactory performance of key functional areas and critical tasks, and (3) timely augmentation of the response capability.

Basis for proposed no significant hazards consideration determination: As required by 10 CFR 50.91(a), the licensee has provided its analysis of the issue of no significant hazards consideration, which is presented below:

1. Does the proposed amendment involve a significant increase in the probability or consequences of an accident previously evaluated?

Response: No.

The proposed changes to the PVNGS Emergency Plan do not increase the probability or consequences of an accident. The proposed changes do not impact the function of plant Structures, Systems, or Components (SSCs). The proposed changes do not affect accident initiators or accident precursors, nor do the changes alter design assumptions. The proposed changes do not alter or prevent the ability of the onsite ERO to perform their intended functions to mitigate the consequences of an accident or event.

Therefore, the proposed changes to the PVNGS Emergency Plan do not involve a significant increase in the probability or consequences of an accident previously evaluated.

2. Does the proposed amendment create the possibility of a new or different kind of accident from any accident previously evaluated?

Response: No.

The proposed changes have no impact on the design, function, or operation of any plant SSCs. The proposed changes do not affect plant equipment or accident analyses. The proposed changes do not involve a physical alteration of the plant (i.e., no new or different type of equipment will be installed), a change in the method of plant operation, or new operator actions. The proposed changes do not introduce failure modes that could result in a new accident, and the proposed changes do not alter assumptions made in the safety analysis.

Therefore, the proposed changes to the PVNGS Emergency Plan do not create the possibility of a new or different kind of accident from any accident previously evaluated.

3. Does the proposed amendment involve a significant reduction in a margin of safety?

Response: No.

Margin of safety is associated with confidence in the ability of the fission product barriers (i.e., fuel cladding, reactor coolant system pressure boundary, and containment structure) to limit the level of radiation dose to the public.

The proposed changes do not adversely affect existing plant safety margins or the reliability of the equipment assumed to operate in the safety analyses. There are no changes being made to safety analysis assumptions, safety limits, or limiting safety system settings that would adversely affect plant safety as a result of the proposed changes. Margins of safety are unaffected by the proposed changes to the ERO staffing.

The proposed changes are associated with the PVNGS Emergency Plan staffing and do not impact operation of the plant or its response to transients or accidents. The proposed changes do not affect the Technical Specifications. The proposed changes do not involve a change in the method of plant operation, and no accident analyses will be affected by the proposed changes. Safety analysis acceptance criteria are not affected by these proposed changes. The proposed changes to the Emergency Plan will continue to provide the necessary on-site ERO response staff.

Therefore, the proposed changes to the PVNGS Emergency Plan do not involve a significant reduction in a margin of safety.

The NRC staff has reviewed the licensee's analysis and, based on that review, it appears that the three standards of 10 CFR 50.92(c) are satisfied. Therefore, the NRC staff proposes to determine that the request for amendments involves no significant hazards consideration.

Attorney for licensee: Michael G. Green, Associate General Counsel, Nuclear and Environmental, Pinnacle West Capital Corporation, P.O. Box 52034, Mail Station 7602, Phoenix, AZ 85072-2034.

NRC Branch Chief: Jennifer L. Dixon-Herrity.

Duke Energy Progress, LLC, Docket No. 50-261, H.B. Robinson Steam Electric Plant, Unit No. 2, Darlington County, South Carolina

Date of amendment request: June 4, 2019, as supplemented by letter dated October 24, 2019. Publicly-available versions are in ADAMS under Accession Nos. ML19155A037, and ML19299A010, respectively.

Description of amendment request: The proposed amendment would revise the H. B. Robinson Steam Electric Plant, Unit No. 2, Technical Specifications (TSs) relating to alternating current (AC) surveillance requirements (SRs).

Basis for proposed no significant hazards consideration determination: As required by 10 CFR 50.91(a), the licensee has provided its analysis of the issue of no significant hazards consideration, which is presented below:

1. Does the proposed change involve a significant increase in the probability or consequences of an accident previously evaluated?

Response: No.

The proposed change revises TS 3.8.2, SR 3.8.2.1 to reflect that HBRSEP [H. B. Robinson Steam Electric Plant] SR 3.8.1.18 is not required to be met in the TS 3.8.2 Applicability (i.e., Modes 5 and 6 and during movement of irradiated fuel assemblies). The proposed change modifies the SR 3.8.2.1 to be consistent with NUREG-1431. The AC power systems are not an initiator of any accident previously evaluated. As a result, the probability of an accident previously evaluated is not increased. The consequences of an accident with the proposed SR 3.8.2.1 listing HBRSEP SR 3.8.1.18 as an exception are no different than the consequences of an accident in Modes 5 or 6 or during the movement of irradiated fuel assemblies with the existing SR 3.8.2.1 that requires SR 3.8.1.18 to be met.

Therefore, the proposed change does not involve a significant increase in the probability or consequences of an accident previously evaluated.

2. Does the proposed change create the possibility of a new or different kind of accident from any accident previously evaluated?

Response: No.

The proposed change revises TS 3.8.2, SR 3.8.2.1 to reflect that HBRSEP SR 3.8.1.18 is not required to be met in the TS 3.8.2 Applicability (i.e., Modes 5 and 6 and during movement of irradiated fuel assemblies). The proposed change modifies the SR 3.8.2.1 to be consistent with NUREG-1431. Limiting Condition for Operation (LCO) 3.8.2 ensures that in the event of an accident during shutdown, sufficient capability exists to support systems necessary to mitigate the event and maintain the unit in the shutdown or refueling condition for an extended period, assuming either a loss of all offsite power or a loss of all onsite diesel generator power. SR 3.8.2.1 helps ensure that LCO 3.8.2 is met but SR 3.8.2.1 does not create the possibility of a new or different kind of accident from any accident previously evaluated. Thus, not requiring SR 3.8.1.18 to be met in the TS 3.8.2 Applicability does not alter that fact. The proposed change also does not alter the design, physical configuration or mode of operation of any plant structure, system or component. No physical changes are being made to any portion of the plant, so no new accident causal mechanisms are being introduced. The proposed change also does not result in any new mechanisms that could initiate damage to the reactor or its principal safety barriers (i.e., fuel cladding, reactor coolant system or primary containment).

Therefore, the proposed change does not create the possibility of a new or different kind of accident from any accident previously evaluated.

3. Does the proposed change involve a significant reduction in a margin of safety?

Response: No.

The proposed change revises TS 3.8.2, SR 3.8.2.1 to reflect that HBRSEP SR 3.8.1.18 is not required to be met in the TS 3.8.2 Applicability (i.e., Modes 5 and 6 and during movement of irradiated fuel assemblies). The proposed change modifies the SR 3.8.2.1 to be consistent with NUREG-1431. Only one offsite circuit is required to be Operable by LCO 3.8.2 and SR 3.8.2.1 will continue to ensure that the LCO is met. With the proposed change, adequate AC power continues to be provided to mitigate events postulated during shutdown, such as a fuel handling accident. Furthermore, the proposed change does not alter any design basis or safety limit established in the UFSAR [Updated Final Safety Analysis Report] or license.

Therefore, the proposed change does not involve a significant reduction in a margin of safety.

The NRC staff has reviewed the licensee's analysis and, based on this review, it appears that the three standards of 10 CFR 50.92(c) are satisfied. Therefore, the NRC staff proposes to determine that the amendment request involves no significant hazards consideration.

Attorney for licensee: Kathryn B. Nolan, Deputy General Counsel, Duke Energy Corporation, 550 South Tryon Street, DEC45A, Charlotte NC 28202.

NRC Branch Chief: Undine Shoop.

Energy Northwest, Docket No. 50-397, Columbia Generating Station, Benton County, Washington

Date of amendment request: September 12, 2019. A publicly-available version is in ADAMS under Accession No. ML19255K007.

Description of amendment request: The amendment would adopt Technical Specifications Task Force (TSTF) Traveler TSTF-529, “Clarify Use and Application Rules,” which would revise the Technical Specification (TS) requirements in Section 1.3 and Section 3.0 regarding Limiting Condition for Operation (LCO) and Surveillance Requirement (SR) usage.

Basis for proposed no significant hazards consideration determination: As required by 10 CFR 50.91(a), the licensee has provided its analysis of the issue of no significant hazards consideration, which is presented below:

1. Does the proposed change involve a significant increase in the probability or consequences of an accident previously evaluated?

Response: No.

The proposed changes to [TS] Section 1.3 [“Completion Times”] and LCO 3.0.4 have no effect on the requirement for systems to be Operable and have no effect on the application of TS actions. The proposed change to SR 3.0.3 states that the allowance may only be used when there is a reasonable expectation the surveillance will be met when performed. Since the proposed changes do not significantly affect system Operability, they will have no significant effect on the initiating events for accidents previously evaluated and will have no significant effect on the ability of the systems to mitigate accidents previously evaluated.

Therefore, it is concluded that the changes do not involve a significant increase in the probability or consequences of an accident previously evaluated.

2. Does the proposed change create the possibility of a new or different kind of accident from any previously evaluated?

Response: No.

The proposed change to the TS usage rules do not affect the design or function of any plant systems. The proposed change does not change the Operability requirements for plant systems or the actions taken when plant systems are not operable.

Therefore, it is concluded that this change does not create the possibility of a new or different kind of accident from any accident previously evaluated.

3. Does the proposed change involve a significant reduction in a margin of safety?

Response: No.

The proposed change clarifies the application of Section 1.3 and LCO 3.0.4 and does not result in changes in plant operation. SR 3.0.3 is revised to allow application of SR 3.0.3 when an SR has not been previously performed and there is reasonable expectation that the SR will be met when performed. This expands the use of SR 3.0.3 while ensuring the affected system is capable of performing its safety function. As a result, plant safety is either improved or unaffected.

Therefore, it is concluded that this change does not involve a significant reduction in a margin of safety.

The NRC staff has reviewed the licensee's analysis and, based on this review, it appears that the three standards of 10 CFR 50.92(c) are satisfied. Therefore, the NRC staff proposes to determine that the amendment request involves no significant hazards consideration.

Attorney for licensee: William A. Horin, Esq., Winston & Strawn, 1700 K Street NW, Washington, DC 20006-3817.

NRC Branch Chief: Jennifer L. Dixon-Herrity.

Exelon FitzPatrick, LLC and Exelon Generation Company, LLC, Docket No. 50-333, James A. FitzPatrick Nuclear Power Plant (JAFNPP), Oswego County, New York

Date of amendment request: August 8, 2019. A publicly-available version is in ADAMS under Accession No. ML19220A043.

Description of amendment request: The amendment would approve the adoption of the alternative source term (AST), in accordance with 10 CFR 50.67, for use in calculating the loss-of-coolant accident dose consequences at James A. FitzPatrick Nuclear Power Plant.

Basis for proposed no significant hazards consideration determination: As required by 10 CFR 50.91(a), the licensee has provided its analysis of the issue of no significant hazards consideration, which is presented below:

1. Does the proposed amendment involve a significant increase in the probability or consequences of an accident previously evaluated?

Response: No.

The implementation of AST assumptions has been evaluated in revisions to the analysis of the loss-of-coolant accident (LOCA).

Based upon the results of these analysis, it has been demonstrated that, with the requested changes, the dose consequences of this limiting event are within the regulatory requirements and guidance provided by the NRC for use with the AST. The regulatory requirements and guidance is presented in 10 CFR 50.67, “Accident source term,” and associated NRC Regulatory Guide 1.183 and Standard Review Plan Section 15.0.1. The AST is an input to calculations used to evaluate the consequences of an accident, and does not, by itself, affect the plant response, or the actual pathway of the radiation released from the fuel. It does, however, better represent the physical characteristics of the release, so that appropriate mitigation techniques may be applied.

The proposed changes are also consistent with the guidance of Technical Specifications Task Force Traveler (TSTF) 551, “Revise Secondary Containment Surveillance Requirements,” Revision 3, which was approved by the NRC on September 21, 2017.

The equipment affected by the proposed change is mitigative in nature and relied upon after an accident has been initiated. Application of the AST does not involve any physical changes to the plant design and is not an initiator of an accident. Removal of the MSLC [Main Steam Leakage Collection] system is not required by the four criteria specified in 10 CFR 50.36. As a result, the proposed changes do not affect any of the parameters or conditions that could contribute to the initiation of any accidents. As such, removal of operability requirements during the specified conditions will not significantly increase the probability of occurrence for an accident previously analyzed. Since design basis accident initiators are not being altered by adoption of the AST analyses, the probability of an accident previously evaluated is not affected. Also, the consequences of previously evaluated accidents remain within the regulatory limits.

Therefore, the proposed changes do not involve a significant increase in the probability or consequences of an accident previously evaluated.

2. Does the proposed amendment create the possibility of a new or different kind of accident from any accident previously evaluated?

Response: No.

The proposed change does not involve a physical alteration of the plant (i.e., no new or different type of equipment will be installed and there are no physical modifications to existing equipment associated with the proposed change). The proposed changes, effectively increasing the allowable main steam isolation valve (MSIV) leakage and crediting the Standby Liquid Control (SLC) system for LOCA mitigation do not create initiators or precursors of a new or different kind of accident. Similarly, it does not physically change any structures, systems, or components involved in the mitigation of any accidents. Thus, no new initiators or precursors of a new or different kind of accident are created.

Therefore, the proposed changes do not create the possibility of a new or different kind of accident from any previously evaluated.

3. Does the proposed amendment involve a significant reduction in a margin of safety?

Response: No.

Safety margins and analytical conservatisms have been evaluated and have been found acceptable. The analyzed event has been carefully selected and margin has been retained to ensure that the analysis adequately bounds postulated event scenarios. The dose consequences due to design basis accidents comply with the requirements of 10 CFR 50.67 and the guidance of Regulatory Guide 1.183.

The proposed change is associated with the implementation of a new licensing basis for JAFNPP design basis accidents. Approval of the change from the original source term to a new source term taken from Regulatory Guide 1.183 is being requested. The results of the accident analysis, revised in support of the proposed license amendment, are subject to revised acceptance criteria. The analysis has been performed using conservative methodologies, as specified in Regulatory Guide 1.183. Safety margins have been evaluated and analytical conservatism has been utilized to ensure that the analysis adequately bounds the postulated limiting event scenario. The dose consequences of this design basis accident remain within the acceptance criteria presented in 10 CFR 50.67 and Regulatory Guide 1.183.

The proposed change continues to ensure that the doses at the exclusion area boundary and low population zone boundary, as well as the Control Room, are within corresponding regulatory limits.

Therefore, the proposed changes do not involve a significant reduction in a margin of safety.

The NRC staff has reviewed the licensee's analysis and, based on this review, it appears that the three standards of 10 CFR 50.92(c) are satisfied. Therefore, the NRC staff proposes to determine that the amendment request involves no significant hazards consideration.

Attorney for licensee: Donald P. Ferraro, Assistant General Counsel, Exelon Generation Company, LLC, 200 Exelon Way, Suite 305, Kennett Square, PA 19348.

NRC Branch Chief: James G. Danna.

Exelon FitzPatrick, LLC and Exelon Generation Company, LLC, Docket No. 50-333, James A. FitzPatrick Nuclear Power Plant, Oswego County, New York

Date of amendment request: September 26, 2019. A publicly-available version is in ADAMS under Accession No. ML19269C622.

Description of amendment request: The amendment would revise Technical Specification requirements for inoperable dynamic restraints (snubbers) consistent with NRC-approved Revision 4 to Technical Specification Task Force (TSTF) Standard Technical Specification Change Traveler, TSTF-372, “Addition of LCO 3.0.8, Inoperability of Snubbers.”

Basis for proposed no significant hazards consideration determination: As required by 10 CFR 50.91(a), the licensee has provided its analysis of the issue of no significant hazards consideration, which is presented below:

1. Does the proposed change involve a significant increase in the probability or consequences of an accident previously evaluated?

Response: No.

The proposed change allows a delay time before declaring supported Technical Specification (TS) systems inoperable when the associated snubber(s) cannot perform its required safety function. Entrance into Actions or delaying entrance into Actions is not an initiator of any accident previously evaluated. Consequently, the probability of an accident previously evaluated is not significantly increased. The consequences of an accident while relying on the delay time allowed before declaring a TS supported system inoperable and taking its Actions are no different than the consequences of an accident under the same plant conditions while relying on the existing TS supported system Actions. Therefore, the consequences of an accident previously evaluated are not significantly increased by this change. Therefore, the proposed change does not involve a significant increase in the probability or consequences of an accident previously evaluated.

2. Does the proposed change create the possibility of a new or different kind of accident from any accident previously evaluated?

Response: No.

The proposed change allows a delay time before declaring supported TS systems inoperable when the associated snubber(s) cannot perform its required safety function. The proposed change does not involve a physical alteration of the plant (no new or different type of equipment will be installed) or a change in the methods governing normal plant operation. Therefore, the proposed change does not create the possibility of a new or different kind of accident from any accident previously evaluated.

2. Does the proposed change involve a significant reduction in a margin of safety?

Response: No.

The proposed change allows a delay time before declaring supported TS Systems inoperable when the associated snubber(s) cannot perform its required safety function. The proposed change restores an allowance in the pre-Improved Standard Technical Specifications (ISTS) conversion TS that was unintentionally eliminated by the conversion. The pre-ISTS TS were considered to provide an adequate margin of safety for plant operation, as does post-ISTS conversion TS. Therefore, the proposed change does not involve a significant reduction in a margin of safety.

The NRC staff has reviewed the licensee's analysis and, based on this review, it appears that the three standards of 10 CFR 50.92(c) are satisfied. Therefore, the NRC staff proposes to determine that the amendment request involves no significant hazards consideration.

Attorney for licensee: Donald P. Ferraro, Assistant General Counsel, Exelon Generation Company, LLC, 200 Exelon Way, Suite 305, Kennett Square, PA 19348.

NRC Branch Chief: James G. Danna.

Southern Nuclear Operating Company, Docket No. 52-026, Vogtle Electric Generating Plant (Vogtle or VEGP), Unit 4, Burke County, Georgia

Date of amendment request: August 22, 2019, as revised by letter dated October 25, 2019. A publicly-available version is in ADAMS under Accession Nos. ML19234A327 and ML19298D420, respectively.

Description of amendment request: The amendment would revise the provided area of horizontal and vertical steel reinforcement for Vogtle Unit 4 Wall L from elevation 117′-6″ to 135′-3″, and would revise the provided area of horizontal steel reinforcement for VEGP Unit 4 Wall 7.3 from elevation 117′-6″ to 135′-3″. The proposed changes would impact Updated Final Safety Analysis Report (UFSAR) Tier 2* information in UFSAR Tables 3H.5-5 and 3H.5-7, and Figures 3H.5-4 and 3H.5-12. The licensee's request dated August 22, 2019, was originally noticed in the Federal Register on September 24, 2019 (84 FR 50082). The licensee's supplement dated October 25, 2019, provided information regarding an additional non-conformance identified for Wall L that would require changes to Tier 2* information in the UFSAR to revise the provided area of vertical reinforcement. This expanded the scope of the request described in the original notice. Therefore, the notice is being reissued in its entirety to include the revised scope, description of the amendment request, and proposed no significant hazards consideration determination.

Basis for proposed no significant hazards consideration determination: As required by 10 CFR 50.91(a), the licensee has provided its analysis of the issue of no significant hazards consideration, which is presented below:

1. Does the proposed amendment involve a significant increase in the probability or consequences of an accident previously evaluated?

Response: No.

As described in UFSAR Subsections 3H.5.1.2 and 3H.5.1.3, interior Wall 7.3 and Wall L are located in the auxiliary building. UFSAR, Section 3H.5 classifies Interior Wall on Column Line 7.3, from elevation (EL) 66′-6″ to 160′-6″ as a “Critical Section.” UFSAR, Section 3H.5 classifies Interior Wall on Column Line L, from EL 117′-6″ to 153′-0″ as a “Critical Section.” Deviations were identified in the constructed walls from the design requirements. The proposed changes modify the provided area of steel reinforcement for VEGP Unit 4 Wall L and Wall 7.3 from elevation 117′-6″ to 135′-3″. These changes maintain conformance to American Concrete Institute (ACI) 349-01 and have no adverse impact on the seismic response of Wall L and Wall 7.3 Wall L and Wall 7.3 continue to withstand the design basis loads without loss of structural integrity or the safety-related functions. The proposed changes do not affect the operation of any system or equipment that initiates an analyzed accident or alter any structures, systems, and components (SSC) accident initiator or initiating sequence of events.

This change does not adversely affect the design function of VEGP Unit 4 Wall L and Wall 7.3, or the SSCs contained within the auxiliary building. This change does not involve any accident initiating components or events, thus leaving the probabilities of an accident unaltered.

Therefore, the proposed amendment does not involve a significant increase in the probability or consequences of a previously evaluated accident.

2. Does the proposed amendment create the possibility of a new or different kind of accident from any accident previously evaluated?

Response: No.

The proposed change modifies the provided area of steel reinforcement for VEGP Unit 4 Wall L and Wall 7.3 from elevation 117′-6″ to 135′-3″. As demonstrated by the continued conformance to the applicable codes and standards governing the design of the structures, the walls withstand the same effects as previously evaluated. The proposed change does not affect the operation of any systems or equipment that may initiate a new of different kind of accident or alter any SSC such that a new accident initiator or initiating sequence of events is created. The proposed change does not adversely affect the design function of auxiliary building Wall L and Wall 7.3, or any other SSC design functions or methods of operation in a manner that results in a new failure mode, malfunction, or sequence of events that affect safety-related or non-safety-related equipment. This change does not allow for a new fission product release path, result in a new fission product barrier failure mode, or create a new sequence of events that result in significant fuel cladding failures.

Therefore, the proposed amendment does not create the possibility of a new or different kind of accident from any accident previously evaluated.

3. Does the proposed amendment involve a significant reduction in a margin of safety?

Response: No.

The proposed change modifies the provided area of steel reinforcement for VEGP Unit 4 Wall L and Wall 7.3 from elevation 117′-6″ to 135′-3″. This change maintains conformance to ACI 349-01. The changes to Wall L and Wall 7.3 reinforcement from elevation 117′-6″ to 135′-3″ do not change the performance of the affected portion of the auxiliary building for postulated loads. The criteria and requirements of ACI 349-01 provide a margin of safety to structural failure. The design of the auxiliary building structure conforms to criteria and requirements in ACI 349-01 and therefore, maintains the margin of safety. The change does not alter any design function, design analysis, or safety analysis input or result, and sufficient margin exists to justify departure from the Tier 2* requirements for the walls. As such, because the system continues to respond to design basis accidents in the same manner as before without any changes to the expected response of the structure, no safety analysis or design basis acceptance limit/criterion is challenged or exceeded by the proposed changes. Accordingly, no significant safety margin is reduced by the change.

Therefore, the proposed amendment does not involve a significant reduction in a margin of safety.

The NRC staff has reviewed the licensee's analysis and, based on this review, it appears that the three standards of 10 CFR 50.92(c) are satisfied. Therefore, the NRC staff proposes to determine that the amendment request involves no significant hazards consideration.

Attorney for licensee: M. Stanford Blanton, Balch & Bingham LLP, 1710 Sixth Avenue North, Birmingham, AL 35203-2015.

NRC Branch Chief: Victor E. Hall.

Tennessee Valley Authority, Docket Nos. 50-259, 50-260, and 50-296, Browns Ferry Nuclear Plant, Units 1, 2 and 3, Limestone County, Alabama

Date of amendment request: September 18, 2019. A publicly-available version is in ADAMS under Accession No. ML19262F378.

Description of amendment request: The proposed amendments would revise the Browns Ferry Nuclear Plant, Units 1, 2, and 3, Emergency Plan to extend staff augmentation times for Emergency Response Organization functions.

Basis for proposed no significant hazards consideration determination: As required by 10 CFR 50.91(a), the licensee has provided its analysis of the issue of no significant hazards consideration, which is presented below:

1. Does the proposed change involve a significant increase in the probability or consequences of an accident previously evaluated?

Response: No.

The proposed increase in staff augmentation times has no effect on normal plant operation or on any accident initiator or precursors and does not impact the function of plant structures, systems, or components (SSCs). The proposed change does not alter or prevent the ability of the Emergency Response Organization to perform their intended functions to mitigate the consequences of an accident or event. The ability of the emergency response organization to respond adequately to radiological emergencies has been demonstrated as acceptable through a staffing analysis as required by 10 CFR 50 Appendix E.IV.A.9.

Therefore, the proposed Emergency Plan changes do not involve a significant increase in the probability or consequences of an accident previously evaluated.

2. Does the proposed change create the possibility of a new or different kind of accident from any accident previously evaluated?

Response: No.

The proposed change does not impact the accident analysis. The change does not involve a physical alteration of the plant (i.e., no new or different type of equipment will be installed), a change in the method of plant operation, or new operator actions. The proposed change does not introduce failure modes that could result in a new accident, and the change does not alter assumptions made in the safety analysis. This proposed change increases the staff augmentation response times in the Emergency Plan, which are demonstrated as acceptable through a staffing analysis as required by 10 CFR 50 Appendix E.IV.A.9. The proposed change does not alter or prevent the ability of the Emergency Response Organization to perform their intended functions to mitigate the consequences of an accident or event.

Therefore, the proposed change does not create the possibility of a new or different kind of accident from any accident previously evaluated.

3. Does the proposed change involve a significant reduction in a margin of safety?

Response: No.

Margin of safety is associated with confidence in the ability of the fission product barriers (i.e., fuel cladding, reactor coolant system pressure boundary, and containment structure) to limit the level of radiation dose to the public. The proposed change is associated with the Emergency Plan staffing and does not impact operation of the plant or its response to transients or accidents. The change does not affect the Technical Specifications. The proposed change does not involve a change in the method of plant operation, and no accident analyses will be affected by the proposed change. Safety analysis acceptance criteria are not affected by this proposed change. The revised Emergency Plan will continue to provide the necessary response staff with the proposed change. A staffing analysis and a functional analysis were performed for the proposed change on the timeliness of performing major tasks for the functional areas of Emergency Plan. The analysis concluded that an extension in staff augmentation times would not significantly affect the ability to perform the required Emergency Plan tasks. Therefore, the proposed change is determined to not adversely affect the ability to meet 10 CFR 50.54(q)(2), the requirements of 10 CFR 50 Appendix E, and the emergency planning standards as described in 10 CFR 50.47(b).

Therefore, the proposed change does not involve a significant reduction in a margin of safety.

The NRC staff has reviewed the licensee's analysis and, based on this review, it appears that the three standards of 10 CFR 50.92(c) are satisfied. Therefore, the NRC staff proposes to determine that the amendment request involves no significant hazards consideration.

Attorney for licensee: General Counsel, Tennessee Valley Authority, 400 West Summit Hill Drive, 6A West Tower, Knoxville, TN 37902.

NRC Branch Chief: Undine Shoop.

Virginia Electric and Power Company (Dominion Energy Virginia)—Virginia, Docket Nos. 50-280 and 50-281, Surry Power Station, Unit Nos. 1 and 2, Surry County, Virginia

Date of amendment request: September 19, 2019. A publicly-available version is in ADAMS under Accession No. ML19269B775.

Description of amendment request: The amendments would revise Technical Specifications (TSs) for the Surry Power Station (Surry), Units 1 and 2. The proposed change would revise TS Figure 3.1-1, “Surry Units 1 and 2 Reactor Coolant System Heatup Limitations,” and Figure 3.1-2, “Surry Units 1 and 2 Reactor Coolant System Cooldown Limitations,” to update the cumulative core burnup applicability limit and to revise and relocate the limiting material property basis from the TS figures to the TS Bases. The proposed changes would be implemented as a result of evaluations performed for the Surry subsequent license renewal application.

Basis for proposed no significant hazards consideration determination: As required by 10 CFR 50.91(a), the licensee has provided its analysis of the issue of no significant hazards consideration, which is presented below:

1. Does the [proposed] change involve a significant increase in the probability or consequences of an accident previously evaluated?

Response: No.

The proposed change revises the Surry Units 1 and 2 TS RCS [Reactor Coolant System] Heatup and Cooldown Limitations figures to reflect an increase in the cumulative core burnup applicability limit to 68 EFPY [Effective Full Power Years]. The existing Surry TS RCS P-T Limits, LTOPS [Low Temperature Overpressure Protection System] Setpoint, and T-enable value remain valid and conservative for cumulative core burnup up to 68 EFPY, thus increasing the cumulative core burnup applicability limit for RCS P-T Limits, LTOPS Setpoints and LTOPS T-enable to 68 EFPY has no bearing on the probability or consequences of an accident previously evaluated. These evaluations address the LTOPS design basis mass addition accident (inadvertent charging pump start), heat addition accident (Reactor Coolant Pump (RCP) start with a secondary-to-primary temperature difference of 50 °F) and Pressurized Thermal Shock (PTS) events, the analysis of which is covered by 10 CFR 50.61.

The increased cumulative core burnup applicability is accomplished through application of improved analytical margins using the Klc reference stress intensity factor, instead of the older, more conservative Kla reference stress intensity factor. Dominion Energy Virginia assessed the effect of use of the analytical margins and determined that the existing TS limits (RCS P-T Limits, LTOPS Setpoints and LTOPS T-enable) governing reactor vessel integrity remain valid and conservative for cumulative core burnup to 68 EFPY. No changes to plant systems, structures or components are proposed, and no new operating modes are established.

Therefore, there is no increase in the probability or consequences of any accident previously evaluated.

2. Does the [proposed] change create the possibility of a new or different kind of accident from any accident previously evaluated?

Response: No.

No changes to plant operating conditions, operating limits or setpoints are being proposed and no changes to plant systems, structures or components are being implemented. The existing Surry TS RCS P-T Limits, LTOPS Setpoints, and LTOPS T-enable value remain valid and conservative for cumulative core burnups up to 68 EFPY. Analysis supporting the increased cumulative core burnup applicability limit was performed in accordance with applicable regulatory guidance and confirms that design functions (i.e., ensuring that combined pressure and thermal stresses under normal operating heatup and cooldown conditions and under design basis accident conditions at low temperature) are maintained.

Therefore, the proposed change does not create the possibility of any accident or malfunction of a different type previously evaluated.

3. Does the proposed change involve a significant reduction in a margin of safety?

Response: No.

The increased cumulative core burnup applicability limit is accomplished through application of improved analytical margins provided by using the Klc reference stress intensity factor, instead of the older, more conservative Kla reference stress intensity factor. Dominion Energy Virginia assessed the effect of the use of the analytical margins and determined that the existing TS P-T Limits, LTOPS Setpoint, and LTOPS T-enable value governing reactor vessel integrity remain valid and conservative for cumulative core burnups up to 68 EFPY. No Changes to plant systems, structures or components are proposed, and no new operating modes are established. Furthermore, plant operating limits and setpoints are not being changed. Consequently, the TS P-T Limits, LTOPS Setpoint, and LTOPS T-enable value provide acceptable margin to vessel fracture under both normal operation and LTOPS design basis (mass addition and heat addition) accident conditions for cumulative core burnups up to 68 EFPY.

Therefore, the proposed change does not result in a significant reduction in the margin of safety.

The NRC staff has reviewed the licensee's analysis and, based on this review, it appears that the three standards of 10 CFR 50.92(c) are satisfied. Therefore, the NRC staff proposes to determine that the amendment request involves no significant hazards consideration.

Attorney for licensee: W.S. Blair, Senior Counsel, Dominion Energy Services Inc., 120 Tredegar St., RS-2, Richmond, VA 23219.

NRC Branch Chief: Michael T. Markley.

IV. Notice of Issuance of Amendments to Facility Operating Licenses and Combined Licenses

During the period since publication of the last biweekly notice, the Commission has issued the following amendments. The Commission has determined for each of these amendments that the application complies with the standards and requirements of the Atomic Energy Act of 1954, as amended (the Act), and the Commission's rules and regulations. The Commission has made appropriate findings as required by the Act and the Commission's rules and regulations in 10 CFR chapter I, which are set forth in the license amendment.

A notice of consideration of issuance of amendment to facility operating license or combined license, as applicable, proposed no significant hazards consideration determination, and opportunity for a hearing in connection with these actions, was published in the Federal Register as indicated.

Unless otherwise indicated, the Commission has determined that these amendments satisfy the criteria for categorical exclusion in accordance with 10 CFR 51.22. Therefore, pursuant to 10 CFR 51.22(b), no environmental impact statement or environmental assessment need be prepared for these amendments. If the Commission has prepared an environmental assessment under the special circumstances provision in 10 CFR 51.22(b) and has made a determination based on that assessment, it is so indicated.

For further details with respect to the action see (1) the applications for amendment, (2) the amendment, and (3) the Commission's related letter, Safety Evaluation and/or Environmental Assessment as indicated. All of these items can be accessed as described in the “Obtaining Information and Submitting Comments” section of this document.

Duke Energy Carolinas, LLC, Docket Nos. 50-269, 50-270, and 50-287, Oconee Nuclear Station, Units 1, 2, and 3, Oconee County, South Carolina

Date of amendment request: September 14, 2018, as supplemented by letters dated January 24, 2019, and July 31, 2019.

Brief description of amendments: The amendments revised the Updated Final Safety Analysis Report regarding tornado licensing basis to allow credit for the Standby Shutdown Facility to mitigate a tornado with the assumed initial conditions of loss of all alternating current power to all units with significant tornado damage to one unit, approval for the use of tornado missile probabilistic methodology, and approval for elimination of the spent fuel pool to high pressure injection flow path for reactor coolant makeup.

Date of issuance: October 31, 2019.

Effective date: As of the date of issuance and shall be implemented by the completion of the following refueling outages: 1EC33 (Fall 2024) for Unit 1, 2EC32 (Fall 2025) for Unit 2, and 3EC33 (Spring 2026) for Unit 3.

Amendment Nos.: 415 (Unit 1), 417 (Unit 2), and 416 (Unit 3). A publicly-available version is in ADAMS under Accession No. ML19260E084; documents related to these amendments are listed in the Safety Evaluation enclosed with the amendments.

Facility Operating License Nos. DPR-38, DPR-47, and DPR-55: The amendments revised the Facility Operating Licenses and Updated Final Safety Analysis Report.

Date of initial notice in Federal Register: April 2, 2019 (84 FR 12641). The supplemental letter dated July 31, 2019, provided additional information that clarified the application, did not expand the scope of the application as originally noticed, and did not change the NRC staff's original proposed no significant hazards consideration determination as published in the Federal Register.

The Commission's related evaluation of the amendment is contained in a Safety Evaluation dated October 31, 2019.

No significant hazards consideration comments received: No.

Duke Energy Progress, LLC, Docket Nos. 50-325 and 50-324, Brunswick Steam Electric Plant, Units 1 and 2, Brunswick County, North Carolina

Date of amendment request: August 30, 2018.

Brief description of amendments: The amendments added new required actions and completion times for three inoperable control room air conditioning subsystems to Technical Specification 3.7.4, “Control Room Air Conditioning (AC) System.”

Date of issuance: October 25, 2019.

Effective date: As of the date of issuance and shall be implemented within 120 days of issuance.

Amendment Nos.: 294 (Unit 1) and 322 (Unit 2). A publicly-available version is in ADAMS under Accession No. ML19254E076; documents related to these amendments are listed in the Safety Evaluation enclosed with the amendments.

Renewed Facility Operating License Nos. DPR-71 and DPR-62: The amendments revised the Renewed Facility Operating Licenses and Technical Specifications.

Date of initial notice in Federal Register: November 6, 2018 (83 FR 55571).

The Commission's related evaluation of the amendments is contained in a Safety Evaluation dated October 25, 2019.

No significant hazards consideration comments received: No.

Duke Energy Progress, LLC, Docket Nos. 50-325 and 50-324, Brunswick Steam Electric Plant, Units 1 and 2, Brunswick County, North Carolina

Date of amendment request: October 18, 2018, as supplemented by letter dated April 3, 2019.

Brief description of amendments: The amendments revised the allowable value associated with Function 1.b (i.e., 4.16 kV Emergency Bus Undervoltage (Loss of Voltage)—Time Delay) in Table 3.3.8.1-1, “Loss of Power Instrumentation,” of Technical Specification 3.3.8.1.

Date of issuance: October 31, 2019.

Effective date: As of the date of issuance and shall be implemented prior to the end of the 2023 Unit 2 refueling outage.

Amendment Nos.: 295 (Unit 1) and 323 (Unit 2). A publicly-available version is in ADAMS under Accession No. ML19268A054; documents related to these amendments are listed in the Safety Evaluation enclosed with the amendments.

Renewed Facility Operating License Nos. DPR-71 and DPR-62: The amendments revised the Renewed Facility Operating Licenses and Technical Specifications.

Date of initial notice in Federal Register: January 31, 2019 (84 FR 811). The letter dated April 3, 2019, provided additional information that clarified the application, did not expand the scope of the application as originally noticed, and did not change the NRC staff's original proposed no significant hazards consideration determination as published in the Federal Register.

The Commission's related evaluation of the amendments is contained in a Safety Evaluation dated October 31, 2019.

No significant hazards consideration comments received: No.

Entergy Operations, Inc., Docket Nos. 50-313 and 50-368, Arkansas Nuclear One, Units 1 and 2, Pope County, Arkansas

Date of amendment request: September 5, 2019.

Brief description of amendment: The amendments extended the implementation dates for Amendment Nos. 263 and 314, “Revision to the Emergency Action Level Scheme,” which were issued on January 17, 2019, for Arkansas Nuclear One, Units 1 and 2, respectively. Amendment Nos. 263 and 314 were effective on the date of issuance (i.e., January 17, 2019) and were required to be implemented on or before October 30, 2019. Amendment Nos. 267 and 317 for Arkansas Nuclear One, Units 1 and 2, respectively, extend the implementation dates from October 30, 2019, to January 14, 2020.

Date of issuance: October 22, 2019.

Effective date: As of the date of issuance and shall be implemented by January 14, 2020.

Amendment Nos.: 267 (Unit 1) and 317 (Unit 2). A publicly-available version is in ADAMS under Accession No. ML19269B672; documents related to these amendments are listed in the Safety Evaluation enclosed with the amendments.

Renewed Facility Operating License Nos. DPR-51 and NPF-6: The amendments revised the Emergency Plan.

Date of initial notice in Federal Register: September 19, 2019 (84 FR 49349).

The Commission's related evaluation of the amendments and final determination of no significant hazards consideration is contained in a Safety Evaluation dated October 22, 2019.

No significant hazards consideration comments received: No.

Entergy Operations, Inc., Docket No. 50-382, Waterford Steam Electric Station, Unit 3, St. Charles Parish, Louisiana

Date of amendment request: April 12, 2018, as supplemented by letters dated June 13, 2018; January 19, 2019; and July 11, 2019.

Brief description of amendment: The amendment approved the use of the TRANFLOW code for determining pressure drops across the steam generator secondary side internal components.

Date of issuance: October 24, 2019.

Effective date: As of the date of issuance and shall be implemented 30 days from the date of issuance.

Amendment No.: 256. A publicly-available version is in ADAMS under Accession No. ML19275D438; documents related to this amendment are listed in the Safety Evaluation enclosed with the amendment.

Renewed Facility Operating License No. NPF-38: The amendment revised the Updated Final Safety Analysis Report.

Date of initial notice in Federal Register: September 4, 2018 (83 FR 44919). The supplements dated January 19, 2019, and July 11, 2019, provided additional information that clarified the application, did not expand the scope of the application as originally noticed, and did not change the NRC staff's original proposed no significant hazards consideration determination as published in the Federal Register.

The Commission's related evaluation of the amendment is contained in a Safety Evaluation dated October 24, 2019.

No significant hazards consideration comments received: No.

Exelon Generation Company, LLC, and PSEG Nuclear LLC, Docket Nos. 50-277 and 50-278, Peach Bottom Atomic Power Station (Peach Bottom), Units 2 and 3, York and Lancaster Counties, Pennsylvania

Date of amendment request: April 26, 2019, as supplemented by letters dated May 23, 2019, and July 24, 2019.

Brief description of amendments: The amendments revised the Peach Bottom, Units 2 and 3, Technical Specifications (TSs) to support a temporary one-time extension of the completion time for TS 3.8.1, “AC Power—Operating,” Required Action A.3, from 7 days to 21 days. This temporary one-time TS change was needed to allow sufficient time to perform physical modification work to replace 27 electrical cables from the transformer to the junction box serving the feed switchgear.

Date of issuance: October 29, 2019.

Effective date: As of the date of issuance.

Amendments Nos.: 328 (Unit 2) and 331 (Unit 3). A publicly-available version is in ADAMS under Accession No. ML19266A622; documents related to these amendments are listed in the Safety Evaluation enclosed with the amendments.

Renewed Facility Operating License Nos. DPR-44 and DPR-56: The amendments revised the Renewed Facility Operating Licenses and TSs.

Date of initial notice in Federal Register: June 18, 2019 (84 FR 28345). The supplemental letters dated May 23, 2019, and July 24, 2019, provided additional information that clarified the application, did not expand the scope of the application as originally noticed, and did not change the NRC staff's original proposed no significant hazards consideration determination as published in the Federal Register.

The Commission's related evaluation of the amendments is contained in a Safety Evaluation dated October 29, 2019.

No significant hazards consideration comments received: No.

Exelon Generation Company, LLC, Docket No. 50-244, R. E. Ginna Nuclear Power Plant, Wayne County, New York

Date of amendment request: January 15, 2019.

Brief description of amendment: The amendment revised the R. E. Ginna Nuclear Power Plant emergency response organization (ERO) positions identified in the emergency plan, including the on-shift, minimum, and full-augmentation ERO staffing requirements. The proposed revisions include eliminating ERO positions; adding ERO positions; changing position descriptions, duties, and duty locations; and relocating certain position descriptions to other parts of the emergency plan or to implementing procedures.

Date of issuance: October 29, 2019.

Effective date: As of the date of issuance and shall be implemented on or before December 31, 2019.

Amendment No.: 134. A publicly-available version is in ADAMS under Accession No. ML19252A246; documents related to this amendment are listed in the Safety Evaluation enclosed with the amendment.

Renewed Facility Operating License No. DPR-18: The amendment revised the Renewed Facility Operating License.

Date of initial notice in Federal Register: April 23, 2019 (84 FR 16894). The supplemental letter dated May 23, 2019, provided additional information that clarified the application, did not expand the scope of the application as originally noticed, and did not change the NRC staff's original proposed no significant hazards consideration determination as published in the Federal Register.

The Commission's related evaluation of the amendment is contained in a Safety Evaluation dated October 29, 2019.

No significant hazards consideration comments received: No.

Holtec Pilgrim, LLC and Holtec Decommissioning International, LLC, Docket No. 50-293, Pilgrim Nuclear Power Station, Plymouth County, Massachusetts

Date of amendment request: September 13, 2018, as supplemented by letters dated January 10, February 8, March 14, and July 16, 2019.

Brief description of amendment: The amendment revised the Pilgrim Nuclear Power Station Renewed Facility Operating License and the associated Technical Specifications to Permanently Defueled Technical Specifications, consistent with the permanent cessation of operations and permanent removal of fuel from the reactor vessel.

Date of issuance: October 28, 2019.

Effective date: As of the date of issuance and shall be implemented within 30 days.

Amendment No.: 250. A publicly-available version is in ADAMS under Accession No. ML19275E425; documents related to this amendment are listed in the Safety Evaluation enclosed with the amendment.

Renewed Facility Operating License No. DPR-35: The amendment revised the Renewed Facility Operating License and Technical Specifications.

Date of initial notice in Federal Register: November 6, 2018 (83 FR 55572). The supplemental letters dated January 10, February 8, March 14, and July 16, 2019, provided additional information that clarified the application, did not expand the scope of the application as originally noticed, and did not change the NRC staff's original proposed no significant hazards consideration determination as published in the Federal Register.

The Commission's related evaluation of the amendment is contained in a Safety Evaluation dated October 28, 2019.

No significant hazards consideration comments received: No.

Nebraska Public Power District, Docket No. 50-298, Cooper Nuclear Station, Nemaha County, Nebraska

Date of amendment request: February 28, 2019.

Brief description of amendment: The amendment revised the Cooper Nuclear Station Technical Specifications to define a new time limit for restoring inoperable reactor coolant system (RCS) leakage detection instrumentation to operable status and establish alternate methods of monitoring RCS leakage when one or more required monitors are inoperable. These changes are consistent with NRC-approved Technical Specifications Task Force (TSTF) Standard Technical Specifications Change Traveler TSTF-514, Revision 3, “Revise BWR [Boiling Water Reactor] Operability Requirements and Actions for RCS Leakage Instrumentation,” as part of the consolidated line item improvement process.

Date of issuance: October 30, 2019.

Effective date: As of the date of issuance and shall be implemented within 60 days of issuance.

Amendment No.: 263. A publicly-available version is in ADAMS under Accession No. ML19238A007; documents related to this amendment are listed in the Safety Evaluation enclosed with the amendment.

Renewed Facility Operating License No. DPR-46: Amendment revised the Renewed Facility Operating License and Technical Specifications.

Date of initial notice in Federal Register: June 4, 2019 (84 FR 25838).

The Commission's related evaluation of the amendment is contained in a Safety Evaluation dated October 30, 2019.

No significant hazards consideration comments received: No.

Southern Nuclear Operating Company, Docket Nos. 52-025 and 52-026, Vogtle Electric Generating Plant (Vogtle), Units 3 and 4, Burke County, Georgia

Date of amendment request: April 26, 2019.

Brief description of amendments: The amendments revised the Combined License (COL) Nos. NPF-91 and NPF-92 for Vogtle, Units 3 and 4, and the Updated Final Safety Analysis Report in the form of departures from the incorporated plant-specific Design Control Document Tier 2* and Tier 2 information related to the design-specific pre-operational Automatic Depressurization System (ADS) Blowdown Test. The amendments authorized changes to credit the previously completed ADS Blowdown first three plant tests as described in the licensing basis documents, including COL Condition 2.D.(2)(a). Specifically, the changes revised the COL, License Condition 2.D.(2)(a)2, by removing the requirement to perform the ADS Blowdown first three plant tests during pre-operational testing.

Date of issuance: October 22, 2019.

Effective date: As of the date of issuance and shall be implemented within 30 days of issuance.

Amendment Nos.: 165 (Unit 3) and 163 (Unit 4). A publicly-available version is in ADAMS under Package Accession No. ML19262F850; documents related to these amendments are listed in the Safety Evaluation enclosed with the amendments.

Facility Combined License Nos. NPF-91 and NPF-92: The amendments revised the Facility Combined Licenses.

Date of initial notice in Federal Register: June 18, 2019 (84 FR 28346).

The Commission's related evaluation of the amendments is contained in a Safety Evaluation dated October 22, 2019.

No significant hazards consideration comments received: No.

STP Nuclear Operating Company, Docket Nos. 50-498 and 50-499, South Texas Project, Units 1 and 2, Matagorda County, Texas

Date of amendment request: April 24, 2019.

Brief description of amendments: The amendments revised Technical Specification (TS) Tables 2.2-1, 3.3-1, and 4.3-1 to change the description of the P-13 permissive interlock for the Reactor Trip System instrumentation. The current phrases, “Turbine Impulse Chamber Pressure” and “Turbine Impulse Pressure,” are replaced with the phrase, “Turbine Inlet Pressure,” throughout the TSs, resulting in a more generic P-13 description that does not specify a particular turbine design.

Date of issuance: October 24, 2019.

Effective date: As of the date of issuance and shall be implemented within 90 days of issuance.

Amendment Nos.: 217 (Unit 1) and 203 (Unit 2). A publicly-available version is in ADAMS under Accession No. ML19217A060; documents related to these amendments are listed in the Safety Evaluation enclosed with the amendments.

Renewed Facility Operating License Nos. NPF-76 and NPF-80: The amendments revised the Renewed Facility Operating Licenses and TSs.

Date of initial notice in Federal Register: June 4, 2019 (84 FR 25840).

The Commission's related evaluation of the amendments is contained in a Safety Evaluation dated October 24, 2019.

No significant hazards consideration comments received: No.

Vistra Operations Company LLC, Docket Nos. 50-445 and 50-446, Comanche Peak Nuclear Power Plant, Unit Nos. 1 and 2, Somervell County, Texas

Date of amendment request: October 31, 2018, as supplemented by letters dated March 28, 2019, and June 3, 2019.

Brief description of amendments: The amendments revised the Comanche Peak Nuclear Power Plant, Unit Nos. 1 and 2, Emergency Plan by changing the Emergency Response Organization (ERO) staff augmentation times and reducing the required number of ERO positions.

Date of issuance: November 4, 2019.

Effective date: As of the date of issuance and shall be implemented within 180 days from the date of issuance.

Amendment No.: 172 (Unit 1) and 172 (Unit 2). A publicly-available version is in ADAMS under Accession No. ML19267A018; documents related to the amendments are listed in the Safety Evaluation enclosed with the amendments.

Facility Operating License Nos. NPF-87 and NPF-89: The amendments revised the Emergency Plan.

Date of initial notice in Federal Register: January 2, 2019 (84 FR 26). The supplemental letters dated March 28, 2019, and June 3, 2019, provided additional information that clarified the application, did not expand the scope of the application as originally noticed, and did not change the NRC staff's original proposed no significant hazards consideration determination as published in the Federal Register.

The Commission's related evaluation of the amendments is contained in a Safety Evaluation dated November 4, 2019.

No significant hazards consideration comments received: No.

Dated at Rockville, Maryland, this 8th day of November, 2019.
For the Nuclear Regulatory Commission.
Jamie M. Heisserer,
Acting Deputy Director, Division of Operating Reactor Licensing, Office of Nuclear Reactor Regulation.

[FR Doc. 2019-24748 Filed 11-18-19; 8:45 am]

BILLING CODE 7590-01-P